DEPARTMENT OF JUSTICE

Antitrust Division

Notice Pursuant to the National Cooperative Research and Production Act of 1993—National Warheads and Energetics Consortium

Notice is hereby given that, on July 22, 2013, pursuant to Section 6(a) of the National Cooperative Research and Production Act of 1993, 15 U.S.C. 4301 et seq. (“the Act”), National Warheads and Energetics Consortium (“NWEC”) has filed written notifications simultaneously with the Attorney General and the Federal Trade Commission disclosing changes in its membership. The notifications were filed for the purpose of extending the Act's provisions limiting the recovery of antitrust plaintiffs to actual damages under specified circumstances. Specifically, Airtronic USA, Inc., Elk Grove Village, IL; Applied Sonics Incorporated, Denver, CO; Blackhawk Management Corporation, Houston, TX; C-2 Innovations, Inc., Stow, MA; CACI, Inc.—Federal, Chantilly, VA; Combustion Propulsion and Ballistic Technology Corp., State College, PA; Dynamet Technology Inc., Burlington, MA; Eureka Aerospace, Inc., Pasadena, CA; Hughes Associates, Inc, Baltimore, MD; IAP Research, Inc., Dayton, OH; Integrated Production Systems, Inc., Arlington, TX; Intertek Laboratories, Inc., Stirling, NJ; Jet Industrial Electronics, Oak Ridge, NJ; K2 Solutions Inc., Southern Pines, NC; LRAD Corporation, San Diego, CA; Metamagnetics Inc., Canton, MA; mPhase Technologies, Inc., Norwalk, CT; MS Technology, Inc., Oak Ridge, TN; OPTRA, Inc., Topsfield, MA; PCP Ammunition Company LLC, Vero Beach, FL; Polaris Sensor Technologies, Inc., Huntsville, AL; Radiance Technologies, Inc., Huntsville, AL; SciCast International, Inc., Bechtelsville, PA; Serco, Inc., Reston, VA; Simulations, LLC, Simsbury, CT; SURVICE Engineering Company, LLC, Belcamp, MD; and Wavefront LLC, Basking Ridge, NJ, have been added as parties to this venture.

Also, Brinkman International, Inc., Rochester, NY; Charles F. Day & Associates, LLC, Davenport, IA; Dindl Firearms Manufacturing, Inc., Newton, NJ; Hi-Shear Technology Corporation, Torrance, CA; Polestar Technologies, Inc., Needham Heights, MA; Prototype Productions, Inc., Ashburn, VA; R4 Incorporated, Eatontown, NJ; Sentel Corporation, Alexandria, VA; Strategic Innovative Solutions, LLC, Ringwood, NJ; Syntronics, LLC, Fredericksburg, VA; Touchstone Research Laboratory, LTD, Triadelphia, WV; and TRAX International Corporation, Las Vegas, NV, have withdrawn as parties to this venture.

No other changes have been made in either the membership or planned activity of the group research project. Membership in this group research project remains open, and NWEC intends to file additional written notifications disclosing all changes in membership.

On May 2, 2000, NWEC filed its original notification pursuant to Section 6(a) of the Act. The Department of Justice published a notice in the Federal Register pursuant to Section 6(b) of the Act on June 30, 2000 (65 FR 40693).

The last notification was filed with the Department on February 19, 2013. A notice was published in the Federal Register pursuant to Section 6(b) of the Act on March 19, 2013 (77 FR 54611).

Patricia A. Brink,
Director of Civil Enforcement, Antitrust Division.

[FR Doc. 2013-20687 Filed 8-23-13; 8:45 am]

BILLING CODE P